SECURITIES AND EXCHANGE COMMISSION

Proposed Collection; Comment Request

Upon Written Request, Copies Available From: Securities and Exchange Commission, Office of Filings and Information Services, Washington, DC 20549.

Extension:

Rule 17f-1(b), SEC File No. 270-28, OMB Control No. 3235-0032

Notice is hereby given that pursuant to the Paperwork Reduction Act of 1995 (44 U.S.C. 3501 et seq.), the Securities and Exchange Commission (“Commission”) is soliciting comments on the collection of information summarized below. The Commission plans to submit this existing collection of information to the Office of Management and Budget for extension and approval.

• Rule 17f-1(b): Requirements for reporting and inquiry with respect to missing, lost, counterfeit, or stolen securities

Rule 17f-1(b) requires approximately 26,000 entities in the securities industry to register in the Lost and Stolen Securities Program (“Program”). Registration fulfills a statutory requirement that entities report and inquire about missing, lost, counterfeit, or stolen securities. Registration also allows entities in the securities industry to gain access to a confidential database that stores information for the Program.

We estimate that 1,000 entities will register in the Program annually. We also estimate that each respondent will register one time. The staff estimates that the average number of hours necessary to comply with the Rule 17f-1(b) is one-half hour. The total burden is 500 hours annually for respondents, based upon past submissions. The average cost per hour is approximately $50. Therefore, the total cost of compliance for respondents is $25,000.

Written comments are invited on: (a) Whether the proposed collection of information is necessary for the proper performance of the functions of the agency, including whether the information shall have practical utility; (b) the accuracy of the agency's estimates of the burden of the proposed collection of information; (c) ways to enhance the quality, utility, and clarity of the information to be collected; and (d) ways to minimize the burden of the collection of information on respondents, including through the use of automated collection techniques or other forms of information technology. Consideration will be given to comments and suggestions submitted in writing within 60 days of this publication.

Please direct your written comments to Kenneth A. Fogash, Acting Associate Executive Director/CIO, Securities and Exchange Commission, 450 5th Street, NW., Washington, DC 20549.

Dated: June 12, 2003.
Margaret H. McFarland,
Deputy Secretary.

[FR Doc. 03-15501 Filed 6-18-03; 8:45 am]

BILLING CODE 8010-01-P